DEPARTMENT OF TRANSPORTATION

Federal Aviation Administration

[Summary Notice No. 2020-10]

Petition for Exemption; Summary of Petition Received; ATK Launch Systems, Inc.

AGENCY: Federal Aviation Administration (FAA), Department of Transportation (DOT).

ACTION: Notice.

SUMMARY: This notice contains a summary of a petition seeking relief from specified requirements of Federal Aviation Regulations. The purpose of this notice is to improve the public's awareness of, and participation in, the FAA's exemption process. Neither publication of this notice nor the inclusion or omission of information in the summary is intended to affect the legal status of the petition or its final disposition.

DATES: Comments on this petition must identify the petition docket number and must be received on or before April 9, 2020.

ADDRESSES: Send comments identified by docket number FAA-2019-1058 using any of the following methods:

• Federal eRulemaking Portal: Go to http://www.regulations.gov and follow the online instructions for sending your comments electronically.

• Mail: Send comments to Docket Operations, M-30; U.S. Department of Transportation, 1200 New Jersey Avenue SE, Room W12-140, West Building Ground Floor, Washington, DC 20590-0001.

• Hand Delivery or Courier: Take comments to Docket Operations in Room W12-140 of the West Building Ground Floor at 1200 New Jersey Avenue SE, Washington, DC 20590-0001, between 9 a.m. and 5 p.m., Monday through Friday, except Federal holidays.

• Fax: Fax comments to Docket Operations at (202) 493-2251.

Privacy: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

Docket: Background documents or comments received may be read at http://www.regulations.gov at any time. Follow the online instructions for accessing the docket or go to the Docket Operations in Room W12-140 of the West Building Ground Floor at 1200 New Jersey Avenue SE, Washington, DC 20590-0001, between 9 a.m. and 5 p.m., Monday through Friday, except Federal holidays.

FOR FURTHER INFORMATION CONTACT: Jake Troutman, (202) 683-7788, Office of Rulemaking, Federal Aviation Administration, 800 Independence Avenue SW, Washington, DC 20591.

This notice is published pursuant to 14 CFR 11.85.

Issued in Washington, DC, on March 16, 2020.
Brandon Roberts,
Deputy Executive Director, Office of Rulemaking.

Petition for Exemption

Docket No.: FAA-2019-1058.

Petitioner: ATK Launch Systems, Inc.

Section(s) of 14 CFR Affected: part 21, Subpart H §§ 43.7; 43.11; 45.29; 61.113(a) & (b); 91.9(b)(2) & (c); 91.105; 91.109; 91.121; 91.203(a) & (b); 91.403; 91.405(a); 91.407(a)(1); 91.409(a)(1) & (2); & 91.417(a) & (b).

Description of Relief Sought: Pursuant to 49 U.S.C. 44807, the proposed exemption, if granted, would allow the petitioner to facilitate sensory and payload testing with the Dakota unmanned aircraft systems (UAS) in support of programs operated by the Space Dynamics Lab at Utah State University. A grant would allow operation of the Dakota UAS, with a maximum gross weight of 265 pounds, manufactured by Geneva Aerospace/L-3 Communications, in the area including and adjacent to their privately-owned airstrip near Promontory, Utah, or as otherwise prescribed in an Air Traffic Organization issued Certificate of Waiver or Authorization. All operations will occur in the daytime within visual line of sight. The aircraft will be launched and recovered by conventional runway takeoff and landing. Its power plant is a two-cylinder, two cycle, gasoline-powered engine. The aircraft also uses a CloudCap Piccolo SL autopilot and ground station. The UAS will not be operated over 95 knots groundspeed.

[FR Doc. 2020-05983 Filed 3-19-20; 8:45 am]

BILLING CODE 4910-13-P